DEPARTMENT OF HOMELAND SECURITY

Coast Guard

[Docket No. USCG-2022-0791]

Area Maritime Security Advisory Committee (AMSC), Eastern Great Lakes, Northeast Ohio Sub-Committee Vacancies

AGENCY: Coast Guard, DHS.

ACTION: Notice of availability of Committee vacancies; solicitation for membership.

SUMMARY: The Coast Guard requests individuals interested in serving on the Area Maritime Security Committee, Eastern Great Lakes, Northeast Ohio Region sub-committee submit their applications for membership to the U.S. Coast Guard Captain of the Port, Buffalo. The Committee assists the Captain of the Port as the Federal Maritime Security Coordinator, Buffalo, in developing, reviewing, and updating the Area Maritime Security Plan for their area of responsibility.

DATES: Requests for membership should reach the Captain of the Port, Buffalo, by February 13, 2023.

ADDRESSES: Applications for membership should be submitted to the Captain of the Port at the following address: Captain of the Port, Buffalo, Attention: LCDR Katherine Peet, 1 Fuhrmann Boulevard, Buffalo, NY 14203-3189.

FOR FURTHER INFORMATION CONTACT: For questions about submitting an application, or about the AMSC in general, contact Mr. Greg Fondran, Northeast Ohio Region Sub-Committee Executive Coordinator, at 216-937-0136 or Greg.A.Fondran@uscg.mil.

SUPPLEMENTARY INFORMATION:

Basis and Purpose

Section 102 of the Maritime Transportation Security Act (MTSA) of 2002 (Pub. L. 107-295) added section 70112 to Title 46 of the U.S. Code and authorized the Secretary of the Department in which the Coast Guard is operating to establish Area Maritime Security Advisory Committees (ASMC) for any port area of the United States. (See 33 U.S.C. 1226; 46 U.S.C.; 33 CFR 1.05-1, 6.01; Department of Homeland Security Delegation No. 0170.1). The MTSA includes a provision exempting these AMSCs from the Federal Advisory Committee Act (FACA), Public Law 92-436, 86 Stat. 470 (5 U.S.C. App.2). The AMSCs shall assist the Federal Maritime Security Coordinator (FMSC) in the development, review, update, and exercising of the Area Maritime Security Plan (AMSP) for their area of responsibility. Such matters may include, but are not limited to, the following:

(1) Identifying critical port infrastructure and operations; Identifying risks (threats, vulnerabilities, and consequences);

(2) Determining mitigation strategies and implementation methods;

(3) Developing strategies to facilitate the recovery of the Maritime Transportation System after a Transportation Security Incident;

(4) Developing and describing the process to continually evaluate overall port security by considering consequences and vulnerabilities, how they may change over time, and what additional mitigation strategies can be applied; and

(5) Providing advice to and assisting the Federal Maritime Security Coordinator in developing and maintaining the Area Maritime Security Plan.

AMSC Membership

Members of the AMSC should have at least five years of experience related to maritime or port security operations. The Northeast Ohio Region Sub-Committee of the Eastern Great Lakes AMSC has 31 members. We are seeking to fill two (2) Sub-Committee vacancies with this solicitation, an Executive Board member to serve as Chairperson, and an Executive Board member to serve as Vice-Chairperson; both will serve concurrently as a member of the Eastern Great Lakes AMSC when so convened by the FMSC.

Applicants may be required to pass an appropriate security background check prior to appointment to the committee. Applicants must register with and remain active as a Coast Guard Homeport user if appointed. Member's term of office will be for five years; however, a member is eligible to serve additional terms of office. Members will not receive any salary or other compensation for their service on an AMSC. In accordance with 33 CFR 103, members may be selected from Federal, Territorial, or Tribal governments; State government and political subdivisions of the State; local public safety, crisis management, and emergency response agencies; law enforcement and security organizations; maritime industry, including labor; other port stakeholders having a special competence in maritime security; and port stakeholders affected by security practices and policies.

The Department of Homeland Security does not discriminate in selection of committee members on the basis of race, color, religion, sex, national origin, political affiliation, sexual orientation, gender identity, marital status, disability, and genetic information, age, membership in an employee organization, or any other non-merit factor. The Department of Homeland Security strives to achieve a widely diverse candidate pool for all of its recruitment actions.

Request for Applications

Those seeking membership are not required to submit formal applications to the local Captain of the Port, however, because we do have an obligation to ensure that a specific number of members have the prerequisite maritime security experience, we encourage the submission of resumes highlighting experience in the maritime and security industries.

Dated: December 14, 2022.
Mark I. Kuperman,
Captain, U.S. Coast Guard, Captain of the Port & Federal Maritime Security Coordinator, Buffalo.

[FR Doc. 2023-00553 Filed 1-12-23; 8:45 am]

BILLING CODE 9110-15-P